DEPARTMENT OF ENERGY

Federal Energy Regulatory Commission

[ Project No. 13625-003; Project No. 14504-000]

Lock+ Hydro Friends Fund XXX, LLC; FFP Project 121, LLC; Notice Announcing Preliminary Permit Drawing

The Commission has received two preliminary permit applications deemed filed on March 1, 2012, at 8:30 a.m.,¹ for proposed projects to be located at the U.S. Army Corps of Engineers' New Cumberland Locks and Dam on the Ohio River, near the town of New Cumberland, Hancock County, West Virginia and Jefferson County, Ohio. The applications were filed by Lock+ Hydro Friends Fund XXX, LLC for Project No. 13625 and FFP Project 121, LLC for Project No. 14504.

¹ Under the Commission's Rules of Practice and Procedure, any document received after regular business hours is considered filed at 8:30 a.m. on the next regular business day. See 18 CFR 385.2001(a)(2) (2013).

On August 21, 2013, at 10:00 a.m. (Eastern Time), the Secretary of the Commission, or her designee, will conduct a random drawing to determine the filing priority of the applicants identified in this notice. The Commission will select among competing permit applications as provided in section 4.37 of its regulations.² The priority established by this drawing will be used to determine which applicant, between those with identical filing times, will be considered to have the first-filed application.

² See id. § 4.37.

The drawing is open to the public and will be held in room 2C, the Commission Meeting Room, located at 888 First Street NE., Washington, DC 20426. The Secretary will issue a subsequent notice announcing the results of the drawing.

Dated: August 7, 2013.
Kimberly D. Bose,
Secretary.

[FR Doc. 2013-19658 Filed 8-13-13; 8:45 am]

BILLING CODE 6717-01-P